NATIONAL CREDIT UNION ADMINISTRATION

Sunshine Act; Notice of Agency Meeting

TIME AND DATE: 10:00 a.m., Thursday, November 15, 2012.

PLACE: Board Room, 7th Floor, Room 7047, 1775 Duke Street, Alexandria, VA 22314-3428.

STATUS: Open.

MATTERS TO BE CONSIDERED: 1. NCUA's 2013 Operating Budget.

2. NCUA/NCUSIF Overhead Transfer Rate.

3. Federal Credit Unions' Operating Fee Scale.

4. Board Briefing on the Estimated 2013 Premium Ranges for the NCUSIF and the Corporate Stabilization Fund.

FOR FURTHER INFORMATION CONTACT: Mary Rupp, Secretary of the Board, Telephone: 703-518-6304.

Mary Rupp,
Board Secretary.

[FR Doc. 2012-27648 Filed 11-8-12; 4:15 pm]

BILLING CODE 7535-01-P